DEPARTMENT OF THE INTERIOR

National Park Service

[NPS-WASO-NAGPRA-NPS0039518; PPWOCRADN0-PCU00RP14.R50000]

Notice of Intended Repatriation: University of California, Davis, Davis, CA

AGENCY: National Park Service, Interior.

ACTION: Notice.

SUMMARY: In accordance with the Native American Graves Protection and Repatriation Act (NAGPRA), the University of California, Davis (UC Davis) intends to repatriate certain cultural items that meet the definition of sacred objects and that have a cultural affiliation with the Indian Tribes or Native Hawaiian organizations in this notice.

DATES: Repatriation of the cultural items in this notice may occur on or after April 17, 2025.

ADDRESSES: Megon Noble, NAGPRA Project Manager, University of California, Davis, 412 Mrak Hall, One Shields Avenue, Davis, CA 95616, telephone (530) 752-8501, email mnoble@ucdavis.edu.

SUPPLEMENTARY INFORMATION: This notice is published as part of the National Park Service's administrative responsibilities under NAGPRA. The determinations in this notice are the sole responsibility of UC Davis, and additional information on the determinations in this notice, including the results of consultation, can be found in the summary or related records. The National Park Service is not responsible for the determinations in this notice.

Abstract of Information Available

A total of seven cultural items have been requested for repatriation. The seven sacred objects are four baskets and three lots of regalia. The University is unaware of any treatment of the sacred objects with pesticides, preservatives, or other substances that represent a potential hazard to the objects or to persons handling the objects.

There are four baskets, (CHM-384, 385, 386, 387) that were purchased by C. Hart Merriam on August 21, 1906, from “the Indian village near Kelseyville” in Lake County, California. Merriam spells the village as, “Ho-hla-nap'po” but descendants spell it as Xa-Be-Na-Po or Xa-La-Na-Po. The Big Valley Band of Pomo Indians Tribal members are descendants of Xa-Ben-Na-Po.

There are three catalog numbers/lots of feather sticks (CHM-1517 A-H, 1519 A-B, 1520), that were collected by C. Hart Merriam at some point between 1894 and the mid-1930s. Consultation indicates these items are associated with Big Valley Band of Pomo Indians of the Big Valley Rancheria, California. Original documentation for these items is unknown, however, after consultation with several tribes, the regalia had been identified as likely made by Pomo or Patwin tribes.

Determinations

The UC Davis has determined that:

• The seven sacred objects described in this notice are specific ceremonial objects needed by a traditional Native American religious leader for present-day adherents to practice traditional Native American religion, according to the Native American traditional knowledge of a lineal descendant, Indian Tribe, or Native Hawaiian organization.

• There is a reasonable connection between the cultural items described in this notice and the Big Valley Band of Pomo Indians of the Big Valley Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 17, 2025. If competing requests for repatriation are received, the UC Davis must determine the most appropriate requestor prior to repatriation. Requests for joint repatriation of the cultural items are considered a single request and not competing requests. The UC Davis is responsible for sending a copy of this notice to the Indian Tribes and Native Hawaiian organizations identified in this notice and to any other consulting parties.

Authority: Native American Graves Protection and Repatriation Act, 25 U.S.C. 3004 and the implementing regulations, 43 CFR 10.9.

Dated: February 11, 2025.
Melanie O'Brien,
Manager, National NAGPRA Program.

[FR Doc. 2025-04384 Filed 3-17-25; 8:45 am]

BILLING CODE 4312-52-P